DEPARTMENT OF TRANSPORTATION

Federal Motor Carrier Safety Administration

[Docket No. FMCSA-2024-0063]

Commercial Driver's License: Covenant Transport Inc. and Landair Transport Inc. Jointly d/b/a Covenant Logistics; Application for Exemption

AGENCY: Federal Motor Carrier Safety Administration (FMCSA), Department of Transportation (DOT).

ACTION: Notice of final disposition; grant of application for exemption.

SUMMARY: FMCSA announces its decision to grant Covenant Transport Inc. and Landair Transport Inc., jointly doing business as Covenant Logistics, an exemption from the requirement for a commercial learner's permit (CLP) holder, while operating a commercial motor vehicle (CMV), to be accompanied by a commercial driver's license (CDL) holder with the proper CDL class and endorsements seated in the front seat of the CMV. The exemption allows a CLP holder, who has passed the skills test but not yet received their CDL document, to drive a Covenant Logistics' CMV while accompanied by a CDL holder who is not in the passenger seat, provided the driver has documentation of passing the skills test. FMCSA has analyzed the exemption application and public comments and determined that the exemption, subject to the terms and conditions imposed, will maintain a level of safety that is equivalent to, or greater than, the level that would be achieved absent such exemption.

DATES: The exemption is effective July 30, 2024 through July 30, 2026.

FOR FURTHER INFORMATION CONTACT: Ms. Pearlie Robinson, Driver and Carrier Operations Division; Office of Carrier, Driver and Vehicle Safety Standards, FMCSA; (202) 366-4225; or pearlie.robinson@dot.gov. If you have questions on viewing or submitting material to the docket, contact Dockets Operations at (202) 366-9826.

SUPPLEMENTARY INFORMATION:

I. Public Participation

Viewing Comments and Documents

To view comments, go to www.regulations.gov, insert the docket number “FMCSA-2024-0063” in the keyword box, and click “Search.” Next, sort the results by “Posted (Newer-Older),” choose the first notice listed, and click “View Related Comments.”

To view documents mentioned in this notice as being available in the docket, go to www.regulations.gov, insert the docket number “FMCSA-2024-0063” in the search box, click “Search,” and choose the document to review.

If you do not have access to the internet, you may view the docket by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely maintain a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

FMCSA's CDL regulations establish minimum requirements for a CLP to be considered a valid CDL during behind-the-wheel training of a CLP holder on public roads or highways. Under 49 CFR 383.25(a)(1), a CLP holder, when operating a CMV, must be accompanied by a CDL holder with the proper CDL class and endorsements necessary to operate the CMV. Also at all times, the CDL holder must be physically present in the front seat of the CMV next to the CLP holder or, in a passenger vehicle, directly behind or in the front row behind the driver and must have the CLP holder under observation and direct supervision.

Applicant's Request

Covenant Transport Inc. and Landair Transport Inc., jointly doing business as Covenant Logistics, requested an exemption from 49 CFR 383.25(a)(1) to allow CLP holders who have successfully passed a CDL skills test and are thus eligible to receive a CDL, to drive a CMV without a CDL holder present in the front passenger seat. This exemption allows Covenant Logistics to employ a driver to transport freight immediately after the driver passes their CDL skills test and while their CDL documentation is being processed by their State of domicile. The applicant requests relief from the provision of 49 CFR 383.25(a)(1) for two years.

IV. Method to Ensure an Equivalent or Greater Level of Safety

Covenant Logistics asserts that the exemption will result in a level of safety that is greater than the level of safety without the exemption. Covenant states that a CLP holder affected by this exemption will have already completed all the necessary steps to qualify for a CDL, including passing the CDL skills test with the remaining requirement being the administrative function of obtaining the actual CDL from their home State Driver's Licensing Agency (SDLA). By granting the exemption, CLP holders who have passed a CDL skills test can begin immediate and productive on-the-job training. According to Covenant, this will allow CLP holders to improve their recently acquired driving skill set and put them to work immediately at an income that meets or exceeds industry standards. Covenant Logistics said that under the proposed exemption it would ensure that a CDL driver remains in the CMV while the CLP holder is driving, but not necessarily in the front passenger seat.

V. Public Comments

On May 23, 2024, FMCSA published notice of Covenant Logistics' application for exemption and requested public comment (89 FR 45732). On May 30, 2024, the Agency published a correction of that notice of two errors regarding the approximate number of drivers hired and the number of drivers covered by the proposed exemption (89 FR 46987). The Agency received a total of 27 comments; two comments were in favor of granting the exemption and the remaining 25 comments opposed granting the exemption. The 25 opposing comments included: a submission by the Owner-Operator Independent Driver's Association (OOIDA): joint comments filed by the Truck Safety Coalition (TSC), Citizens for Reliable and Safe Highways, and Parents Against Tired Truckers; and comments from individuals.

OOIDA wrote, “The regulations requiring an experienced driver in the front seat with a permit holder were implemented with safety in mind. Because Covenant has not sufficiently demonstrated that this exemption would achieve a level of safety equivalent or greater than the safety level under the current regulations, a waiver should not be granted.”

TSC said, “Requiring CLP holders to receive physically direct CDL holder supervision and observation reduces the likelihood that mistakes will occur in the first place. TSC calls on FMCSA to demonstrate its unwavering commitment to safety and to deny this inadequately justified exemption application for renewal.”

Laurel Tucker, an individual opposing the exemption commented, “Please don't allow truck-driver trainees to drive without licensed drivers in the seat next to them. Our highways are already much more hazardous than they've been in the past several decades.”

Dwight Harvey, another individual opposing the exemption wrote, “I do not agree with allowing individuals with a training permit to drive commercial vehicles alone. This is a safety concern.”

The two commenters supporting the proposed exemption were submitted by the American Trucking Associations (ATA) and AWM Associates, LLC (AWM).

ATA stated, “ATA supports Covenant Logistics' exemption request allowing the company to employ drivers to transport freight immediately after the driver passes their CDL skills test and while their CDL documentation is being processed by their state of domicile—eliminating situations in which Covenant must send newly credentialed drivers home in an unproductive, non-driving capacity or delays in driver productivity due to long waiting periods for drivers to receive their CDL documentation.”

AWM wrote, “The FMCSA has exemptions in place for Werner, CR England, [Wilson] Logistics New PRIME, CRST, and Steven's Transport allowing thousands of drivers to use their CLP to drive after passing their skills tests.” The commentor continued their argument, implying a need to change Part 383 to promote equality and stated, “Regulations are designed to level the field, not allow special consideration to on over the other. It's time the FMCSA modified Part 383 to deal with the reality that they're not treating all concerned equally.”

VI. FMCSA Safety Analysis and Decision

FMCSA has evaluated Covenant Logistics' application for an exemption and the public comments and believes Covenant Logistics will maintain a level of safety that is equivalent to, or greater than, the level of safety achieved without the exemption. The premise of comments opposing the exemption is that CLP holders lack experience and are safer drivers when directly observed by a CDL holder who is on duty and in the front seat of the vehicle. However, CLP holders who have passed the CDL skills test are eligible to obtain a CDL without further training. If these CLP holders had obtained their training and CLPs in their State of domicile, they could immediately obtain their CDL at the in-State SDLA and begin driving a CMV without any on-board supervision. Because these drivers have passed the CDL skills test, the only necessary step to obtain the CDL is to visit the SDLA in their State of domicile. Furthermore, the CDL holder will be in the CMV while the CLP holder is operating the CMV.

In addition, as recently as December 2022, FMCSA granted this same exemption to Stevens Transport, Inc. (87 FR 79931), and has granted five-year renewals for the following five motor carriers: CRST The Transportation Solution, C.R. England, Inc.; New Prime, Inc.; Werner Enterprises; and Wilson Logistics [87 FR 79931; 88 FR 52241; 87 FR 36360; 87 FR 38449; 87 FR 18855; 86 FR 11050]. To date, the Agency does not have record of any of the companies operating under the 49 CFR 383.25(a)(1) exemption experiencing any deterioration of their safety records or involvement in crashes.

The requested exemption is restricted to Covenant Logistics' CLP holders who have documentation that they have passed the CDL skills test. The exemption will enable these drivers to operate a CMV as a team driver without the accompanying CDL holder to be in the front seat.

VII. Terms and Conditions

When operating under this exemption, Covenant Logistics and its drivers are subject to the following terms and conditions:

(1) Covenant Logistics and its drivers must comply with all other applicable Federal Motor Carrier Safety Regulations (49 CFR parts 350-399);

(2) The drivers must be in possession of a valid State driver's license, a CLP with the required endorsements, and documentation from the testing State that they have passed the CDL skills test;

(3) A CDL holder with the proper CDL class and endorsements must be in the operated CMV;

(4) The drivers must not be subject to any out-of-service order or suspension of driving privileges; and

(5) The drivers must be able to provide this exemption document to enforcement officials.

Preemption

In accordance with 49 U.S.C. 31315(d), as implemented by 49 CFR 381.600, during the period this exemption is in effect, no State shall enforce any law or regulation that conflicts with or is inconsistent with this exemption with respect to a firm or person operating under the exemption. States may, but are not required to, adopt the same exemption with respect to operations in intrastate commerce.

Notification to FMCSA

Covenant Logistics must notify FMCSA within 5 business days of any accident (as defined in 49 CFR 390.5) involving any of its drivers operating under the terms of this exemption. The notification must include the following information:

(a) Name of the exemption: “Covenant Logistics”

(b) Date of the accident

(c) City or town, and State, in which the accident occurred, or closest to the accident scene

(d) Driver's name and license number

(e) Vehicle number and State license number

(f) Number of individuals suffering physical injury

(g) Number of fatalities

(h) The police-reported cause of the accident

(i) Whether the driver was cited for violation of any traffic laws, motor carrier safety regulations

(j) The driver's total driving time and total on-duty time prior to the accident.

Reports filed under this provision shall be emailed to MCPSD@DOT.GOV.

Termination

FMCSA does not believe the drivers covered by this exemption will experience any deterioration of their safety records. The exemption will be rescinded if: (1) Covenant Logistics and drivers operating under the exemption fail to comply with the terms and conditions of the exemption; (2) the exemption has resulted in a lower level of safety than was maintained before it was granted; or (3) continuation of the exemption would not be consistent with the goals and objects of 49 U.S.C. 31136(e) and 31315(b). FMCSA further reserves the right to terminate this exemption in the event it is no longer necessary due to revised regulatory requirements.

Sue Lawless,
Acting Deputy Administrator.

[FR Doc. 2024-16692 Filed 7-29-24; 8:45 am]

BILLING CODE 4910-EX-P